DEPARTMENT OF THE INTERIOR

National Park Service

[NPS-WASO-NAGPRA-22033; PPWOCRADN0-PCU00RP16.R50000]

Native American Graves Protection and Repatriation Review Committee; Meetings

AGENCY: National Park Service, Interior.

ACTION: Meeting notice.

SUMMARY: Notice is hereby given in accordance with the Federal Advisory Committee Act, (5 U.S.C. Appendix 1-16), of two meetings of the Native American Graves Protection and Repatriation Review Committee (Review Committee). All meetings will be open to the public.

DATES: The Review Committee will meet on March 15-16, 2017, from 8:30 a.m. until 5 p.m. (Mountain); and July 11, 2017, from 2 p.m. until approximately 6 p.m. (Eastern). Related deadlines for participating in each meeting are detailed in this notice.

ADDRESSES: The Review Committee will meet on March 15-16, 2017, at History Colorado, 1200 Broadway, Denver, CO 80203. Electronic submissions of materials or requests are to be sent to nagpra_info@nps.gov. Those who desire to attend the telephonic meeting should register at http://www.nps.gov/nagpra to be provided the telephone access number for the meeting.

SUPPLEMENTARY INFORMATION: The Review Committee was established in Section 8 of the Native American Graves Protection and Repatriation Act of 1990 (NAGPRA), 25 U.S.C. 3006.

March 15-16, 2017

The Review Committee will meet on March 15-16, 2017, from 8:30 a.m. to 5 p.m. (Mountain), at History Colorado, Denver, CO. This meeting will be open to the public. The agenda for this meeting will include a report from the National NAGPRA Program; the discussion of the Review Committee Report to Congress for 2017; subcommittee reports and discussion; and other topics related to the Review Committee's responsibilities under Section 8 of NAGPRA. In addition, the agenda may include requests to the Review Committee for a recommendation to the Secretary of the Interior that an agreed-upon disposition of Native American human remains determined to be culturally unidentifiable proceed; presentations by Indian tribes, Native Hawaiian organizations, museums, Federal agencies, associations, and individuals; public comment; requests to the Review Committee, pursuant to 25 U.S.C. 3006(c)(3), for review and findings of fact related to the identity or cultural affiliation of human remains or other cultural items, or the return of such items; and facilitation of the resolution of disputes among parties convened by the Review Committee pursuant to 25 U.S.C. 3006(c)(4). Presentation to the Review Committee by telephone may be requested but is not guaranteed. The agenda and materials for this meeting will be posted on or before February 15, 2017, at http://www.nps.gov/nagpra.

The Review Committee is soliciting presentations from Indian tribes, Native Hawaiian organizations, museums, and Federal agencies on the following two topics: (1) The progress made, and any barriers encountered, in implementing NAGPRA and (2) the outcomes of disputes reviewed by the Review Committee pursuant to 25 U.S.C. 3006(c)(4). The Review Committee also will consider other presentations from Indian tribes, Native Hawaiian organizations, museums, Federal agencies, associations, and individuals. A presentation request must, at minimum, include an abstract of the presentation and contact information for the presenter(s). Presentation requests and materials must be received by February 1, 2017. Written comments will be accepted from any party and provided to the Review Committee. Written comments received by February 8, 2017, will be provided to the Review Committee before the meeting.

The Review Committee will consider requests for a recommendation to the Secretary of the Interior that an agreed-upon disposition of Native American human remains determined to be culturally unidentifiable (CUI) proceed. A CUI disposition request must include the appropriate, completed form posted on the National NAGPRA Program Web site and, as applicable, the ancillary materials noted on the form. To access and download the appropriate form—either the form for CUI with a “tribal land” or “aboriginal land” provenience or the form for CUI without a “tribal land” or “aboriginal land” provenience—go to http://www.nps.gov/nagpra, and then click on “Request for CUI Disposition Forms.” CUI disposition requests must be received by January 4, 2017.

The Review Committee will consider requests, pursuant to 25 U.S.C. 3006(c)(3), for review and findings of fact related to the identity or cultural affiliation of human remains or other cultural items, or the return of such items, where consensus among affected parties is unclear or uncertain. A request for findings of fact must be accompanied by a statement of the fact(s) at issue and supporting materials, including those exchanged by the parties to consultation concerning the Native American human remains and/or other cultural items. To access procedures for presenting findings of fact, go to http://www.nps.gov/nagpra/REVIEW/Procedures.htm. Requests for findings of fact must be received by November 18, 2016.

The Review Committee will consider requests, pursuant to 25 U.S.C. 3006(c)(4), to convene parties and facilitate the resolution of a dispute, where consensus clearly has not been reached among affected parties regarding the identity or cultural affiliation of human remains or other cultural items, or the return of such items. A request to convene parties and facilitate the resolution of a dispute must be accompanied by a statement of the decision of the museum or Federal agency subject to the dispute resolution request, a statement of the issue, and the materials exchanged by the parties concerning the Native American human remains and/or other cultural items. To access procedures for presenting disputes, go to http://www.nps.gov/nagpra/REVIEW/Procedures.htm. Requests to convene parties and facilitate resolution of a dispute must be received by November 18, 2016.

Submissions and requests should be sent to nagpra_info@nps.gov. Such items are subject to posting on the National NAGPRA Program Web site prior to the meeting.

July 11, 2017

The Review Committee will meet via teleconference on July 11, 2017, from 2 p.m. until approximately 6 p.m. (Eastern). This meeting will be open to the public. The agenda for this meeting will include a report from the National NAGPRA Program; the discussion of the Review Committee Report to Congress for 2017; subcommittee reports and discussion; and other topics related to the Review Committee's responsibilities under Section 8 of NAGPRA. In addition, the agenda may include requests to the Review Committee for a recommendation to the Secretary of the Interior that an agreed-upon disposition of Native American human remains determined to be culturally unidentifiable proceed; presentations by Indian tribes, Native Hawaiian organizations, museums, Federal agencies, associations, and individuals; and public comment. The agenda and materials for this meeting will be posted on or before June 13, 2017, at http://www.nps.gov/nagpra.

The Review Committee is soliciting presentations from Indian tribes, Native Hawaiian organizations, museums, and Federal agencies on the following two topics: (1) The progress made, and any barriers encountered, in implementing NAGPRA and (2) the outcomes of disputes reviewed by the Review Committee pursuant to 25 U.S.C. 3006(c)(4). The Review Committee also will consider other presentations from Indian tribes, Native Hawaiian organizations, museums, Federal agencies, associations, and individuals. A presentation request must, at minimum, include an abstract of the presentation and contact information for the presenter(s). Presentation requests and materials must be received by May 30, 2017. Written comments will be accepted from any party and provided to the Review Committee. Written comments received by June 6, 2017, will be provided to the Review Committee before the meeting.

The Review Committee will consider requests for a recommendation to the Secretary of the Interior that an agreed-upon disposition of Native American human remains determined to be CUI proceed. A CUI disposition request must include the appropriate, completed form posted on the National NAGPRA Program Web site and, as applicable, the ancillary materials noted on the form. To access and download the appropriate form—either the form for CUI with a “tribal land” or “aboriginal land” provenience or the form for CUI without a “tribal land” or “aboriginal land” provenience—go to http://www.nps.gov/nagpra, and then click on “Request for CUI Disposition Forms.” CUI disposition requests must be received by May 2, 2017.

Submissions and requests should be sent to nagpra_info@nps.gov. Such items are subject to posting on the National NAGPRA Program Web site prior to the meeting. Those who desire to attend the meeting should register at http://www.nps.gov/nagpra to be provided the telephone access number for the meeting.

General Information

Information about NAGPRA, the Review Committee, and Review Committee meetings is available on the National NAGPRA Program Web site at http://www.nps.gov/nagpra. Approximately fourteen weeks after each Review Committee meeting, the meeting transcript is posted on the National NAGPRA Program Web site.

Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

Before including your address, telephone number, email address, or other personal identifying information in your submission, you should be aware that your entire submission—including your personal identifying information—may be made publicly available at any time. While you may ask us to withhold your personal identifying information from public review, we cannot guarantee that we will be able to do so.

Alma Ripps,
Chief, Office of Policy.

[FR Doc. 2016-25541 Filed 10-20-16; 8:45 am]

BILLING CODE 4312-52-P